DEPARTMENT OF LABOR

Employment and Training Administration

2002 Reopened—Previously Denied Determinations; Notice of Revised Denied Determinations on Reconsideration Under the Trade Adjustment Assistance Extension Act of 2011 Regarding Eligibility To Apply for Worker Adjustment Assistance

In accordance with Section 223 of the Trade Act of 1974, as amended (19 U.S.C. 2273) (Act) the Department of Labor (Department) herein presents summaries of revised determinations on reconsideration regarding eligibility to apply for Trade Adjustment Assistance for workers by case (TA-W-) number regarding negative determinations issued during the period of February 13, 2011 through October 21, 2011. Notices of negative determinations were published in the Federal Register and on the Department's Web site, as required by Section 221 of the Act (19 U.S.C. 2271). As required by the Trade Adjustment Assistance Extension Act of 2011 (TAAEA), all petitions that were denied during this time period were automatically reconsidered. The reconsideration investigation revealed that the following workers groups have met the certification criteria under the provisions of TAAEA.

After careful review of the additional facts obtained, the following revised determinations on reconsideration have been issued.

TA-W-80,001; Mercer (US), Inc., Chicago, IL: February 15, 2010.

TA-W-80,017; Project Resources Group, La Junta, CO: February 25, 2010.

TA-W-80,025; Samuels Jewelers, Inc., Austin, TX: March 2, 2010.

TA-W-80,028; Affiliated Computer Service, Hillsboro, OR: March 1, 2010.

TA-W-80,036; Jabil Circuit of Texas, McAllen, TX: March 9, 2010.

TA-W-80,057; Orchard Brands, Athens, GA: March 17, 2010.

TA-W-80,071; PCS Administration (USA), Inc., North Brook, IL: March 25, 2010.

TA-W-80,084; Dietrich Industries, Blairsville, PA: April 1, 2010.

TA-W-80,095; 6ixSigma Apparel Network, New York, NY: April 6, 2010.

TA-W-80,144; Paramount Home Furnishings, Greensboro, NC: May 2, 2010.

TA-W-80,146; International Business Machines (IBM), Essex Junction, NY: May 2, 2010.

TA-W-80,146A; International Business Machines (IBM), Poughkeepsie, NY: May 2, 2010.

TA-W-80,146B; International Business Machines (IBM), Charlestown, WV: May 2, 2010.

TA-W-80,166; Computer Sciences Corp (CSC), El Segundo, CA: May 6, 2010.

TA-W-80,213; HealthLink, St. Louis, CA: May 30, 2010.

TA-W-80,220; Pelican Importing & Exporting, Houston, TX: June 6, 2010.

TA-W-80,297; Steiff North America, Lincoln, RI: June 28, 2010.

TA-W-80,300; Rancho La Puerta, San Diego, CA: July 15, 2010.

TA-W-80,316; PreMedia Global, Inc., York, PA: August 25, 2011.

TA-W-80,389; Citicorp Credit Services, Florence, KY: August 23, 2010.

TA-W-80,398; Alventosa, McGaw & Zajac, Jericho, NY: August 26, 2010.

TA-W-80,403; Capgemini America, Inc., Irving, TX: August 10, 2010.

TA-W-80,408; International Business Machines (IBM), Southbury, CT: August 31, 2010.

TA-W-80,412; MoneyGram Payment Systems, Lakewood, CO: September 2, 2010.

TA-W-80,440; Bank of America, E.G. Bank of America, N.A., Scranton, PA: September 14, 2010.

I hereby certify that the aforementioned revised determinations on reconsideration were issued during the period of November 17, 2011 through November 22, 2011. These determinations are available on the Department's Web site at http://www.doleta.gov/tradeact/taa/taa_search_form.cfm under the searchable listing of determinations or by calling the Office of Trade Adjustment Assistance toll-free at (888) 365-6822.

Dated: November 25, 2011.
Del Min Amy Chen,
Certifying Officer, Office of Trade Adjustment Assistance.

[FR Doc. 2011-31005 Filed 12-1-11; 8:45 am]

BILLING CODE 4510-FN-P